DEPARTMENT OF DEFENSE

Department of the Air Force

[Docket ID: USAF-2015-0001]

Privacy Act of 1974; System of Records

AGENCY: Department of the Air Force, DoD.

ACTION: Notice to alter a system of records.

SUMMARY: The Department of the Air Force proposes to alter a system of records notice, F036 AETC W entitled “Air Force Institute of Technology Student Information System (AFITSIS) Records” in its existing inventory of records systems subject to the Privacy Act of 1974, as amended.

This system integrates all aspects of student information management. It provides core functions required for resident student graduate education, management of students in civilian institution programs, and course management for civil engineering education programs. The system also provides support for registration, academic programs, course offerings, grades, education planning, candidate packages, resource scheduling, degree auditing, financial reimbursements/forecasting, and official transcript generation.

DATES: Comments will be accepted on or before April 27, 2015. This proposed action will be effective the date following the end of the comment period unless comments are received which result in a contrary determination.

ADDRESSES: You may submit comments, identified by docket number and title, by any of the following methods:

• Federal Rulemaking Portal:http://www.regulations.gov. Follow the instructions for submitting comments.

• Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force, Air Force Privacy Office, Office of Warfighting Integration and Chief Information Officer, ATTN: SAF/CIO A6, 1800 Air Force Pentagon, Washington, DC 20330-1800, or by phone at (571) 256-2515.

SUPPLEMENTARY INFORMATION: The Department of the Air Force's notices for systems of records subject to the Privacy Act of 1974 (5 U.S.C. 552a), as amended, have been published in the Federal Register and are available from the address in FOR FURTHER INFORMATION CONTACT or from the Defense Privacy and Civil Liberties Division Web site at http://dpcld.defense.gov/.

The proposed systems reports, as required by 5 U.S.C. 552a(r) of the Privacy Act of 1974, as amended, were submitted on January 7, 2015 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: March 23, 2015.
Aaron Siegel,
Alternate OSD Federal Register Liaison Officer, Department of Defense.

F036 AETC W

System name:

Air Force Institute of Technology Student Information System (AFITSIS) Records (January 4, 2010, 75 FR 136).

Changes:

* * * * *

System name:

Delete entry and replace with “Air Force Institute of Technology Data Applications Knowledge System (AFITDAKS).”

* * * * *

Categories of individuals covered by the system:

Delete entry and replace with “Air Force active duty members, reservists, Department of Defense (DoD) civilian employees, and other federal government employees attending civilian institutions.”

Categories of records in the system:

Delete entry and replace with “Name, social security number (SSN), federal identification number (FIN), unique system created identification number, gender, race, date of birth, country of citizenship, mailing and home address, home telephone, personal email address, occupation, pay grade, rank, assigned unit identification code (UIC), service affiliation, government agency, course work, grades, academic program, emergency contact information, personal cell telephone, and security clearance.”

Authority for maintenance of the system:

Delete entry and replace with “10 U.S.C. 8013, Secretary of the Air Force; Air Force Instruction 36-2201, Air Force Training Program; Air Force Instruction 36-2301, Developmental Education; and E.O. 9397 (SSN), as amended.”

* * * * *

Routine uses of records maintained in the system including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses published at the beginning of the Air Force's compilation of systems of records notices may apply to this system.”

* * * * *

Storage:

Delete entry and replace with “Records are stored electronically within the Air Force Institution of Technology Data storage.”

Retrievability:

Delete entry and replace with “Name, unique system-created identification number, and/or Social Security Number (SSN).”

Safeguards:

Delete entry and replace with “Records are maintained in a secure facility on the installation; physical entry is restricted by security guards and presentation of authenticated identification badges at entry control points, and cipher locks and key cards for access into buildings. Records are accessed by the custodian of the record system and by person(s) responsible for servicing the record system in the performance of their official duties using Common Access Cards. Persons are properly screened and cleared for access. The information is protected by using user profiles, passwords, and encryption. User profiles are role-based and ensure that only data accessible to the individual's role will appear on the screen.”

* * * * *

System manager(s) and address:

Delete entry and replace with “Director, Communications and Information, 2950 Hobson Way, Wright-Patterson AFB, Ohio 45433-7765.”

Notification procedures:

Delete entry and replace with “Individuals seeking to determine whether information about themselves is contained in this system of records should address written inquiries to Director, Communications and Information, 2950 Hobson Way, Wright-Patterson AFB, Ohio 45433-7765.

For verification purposes, individual should provide their full name and any details which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to information about themselves contained in this system of records should address written inquiries to Director, Communications and Information, 2950 Hobson Way, Wright-Patterson AFB, Ohio 45433-7765.

For verification purposes, individual should provide their full name and any details which may assist in locating records, and their signature. In addition, the requester must provide a notarized statement or an unsworn declaration made in accordance with 28 U.S.C., 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Contesting records procedures:

Delete entry and replace with “The Air Force rules for accessing records, and for contesting contents and appealing initial agency determinations, are published in Air Force Instruction 33-332, The Air Force Privacy and Civil Liberties Program; 32 CFR part 806b; or may be obtained from the system manager.”

* * * * *

[FR Doc. 2015-07270 Filed 3-26-15; 8:45 am]

BILLING CODE 5001-06-P